DEPARTMENT OF HEALTH AND HUMAN SERVICES

Food and Drug Administration

[Docket No. 00F-1366]

Nippon Shokubai; Filing of Food Additive Petition

AGENCY: Food and Drug Administration, HHS.

ACTION: Notice.

SUMMARY: The Food and Drug Administration (FDA) is announcing that Nippon Shokubai has filed a petition proposing that the food additive regulations be amended to provide for the safe use of methylmethacrylate-trimethylolpropane trimethacrylate copolymer as an antiblocking agent in linear low-density polyethylene intended for use in contact with food.

FOR FURTHER INFORMATION CONTACT: Julius Smith, Center for Food Safety and Applied Nutrition (HFS-215), Food and Drug Administration, 200 C St. SW., Washington, DC 20204, 202-418-3091.

SUPPLEMENTARY INFORMATION: Under the Federal Food, Drug, and Cosmetic Act (sec. 409(b)(5) (21 U.S.C. 348(b)(5))), notice is given that a food additive petition (FAP 0B4713) has been filed by Nippon Shokubai, c/o Keller & Heckman, 1001 G St., NW., suite 500 West, Washington, DC 20001. The petition proposes to amend the food additive regulations in § 177.1520 Olefins polymers (21 CFR 177.1520) to provide for the safe use of methylmethacrylate-trimethylolpropane trimethacrylate copolymer as an antiblocking agent in linear low-density polyethylene intended for use in contact with food. The agency has also determined under 21 CFR 25.32(i) that the petitioned action would be of the type that would not individually or cumulatively have a significant effect on the human environment. Therefore, neither an environmental assessment nor an environmental impact statement would be required.

Dated: May 16, 2000.
Alan M. Rulis,
Director, Office of Premarket Approval, Center for Food Safety and Applied Nutrition.

[FR Doc. 00-16725 Filed 6-30-00; 8:45 am]

BILLING CODE 4160-01-F